NUCLEAR REGULATORY COMMISSION

[NRC-2009-0364]

Notice of Availability of Final Supplemental Environmental Impact Statement for the Moore Ranch In-situ Recovery Project in Campbell County, Wyoming, Supplement to the Generic Environmental Impact Statement for In-situ Leach Uranium Milling Facilities

AGENCY: Nuclear Regulatory Commission.

ACTION: Notice of availability.

SUMMARY: Notice is hereby given that the U.S. Nuclear Regulatory Commission (NRC) has published a final Supplemental Environmental Impact Statement (SEIS) to the Generic Environmental Impact Statement for In-situ Leach Uranium Milling Facilities (GEIS), (NUREG-1910, Supplement 1) regarding the Moore Ranch In-Situ Recovery Project in Campbell County, Wyoming. By letter dated October 2, 2007, Energy Metals Corporation, a wholly-owned subsidiary of Uranium One Americas (Uranium One), submitted an application to the NRC for a new source material license for the proposed Moore Ranch Project, located in southwest Campbell County, Wyoming. Uranium One is proposing to recover uranium from the Moore Ranch site using the in-situ leach (also known as the in-situ recovery [ISR]) process. In this final SEIS, the NRC staff assessed the environmental impacts from the construction, operation, aquifer restoration, and decommissioning of the proposed Moore Ranch ISR Project.

In addition to the proposed action, the NRC staff assessed the no-action alternative in the final SEIS. Under this alternative, NRC would deny Uranium One's request to construct, operate, conduct aquifer restoration, and decommission an ISR facility at the Moore Ranch Project. Possible alternatives that were considered, but were eliminated from detailed analysis include: conventional mining (whether by open pit or underground techniques) and conventional milling or heap leach processing. However, given the substantial environmental impacts of these alternatives, they were not further considered. The NRC staff also evaluated alternative lixiviants, alternative wastewater disposal options, and an alternative site location within the proposed license area. For reasons discussed in the SEIS, these alternatives were also eliminated from further consideration.

As discussed in Section 2.3 of the final SEIS, unless safety issues mandate otherwise, the NRC staff's recommendation to the Commission related to the environmental aspects of the proposed action is that the source material license be issued as requested. This recommendation is based upon (1) the license application, including the environmental report submitted by Uranium One and the applicant's supplemental letters and responses to the NRC staff's requests for additional information; (2) consultation with Federal, State, Tribal, and local agencies; (3) the NRC staff's independent review; (4) the NRC staff's consideration of comments received on the draft SEIS; and (5) the assessments summarized in this SEIS.

The final SEIS for the Moore Ranch ISR Project may be accessed on the internet at http://www.nrc.gov/reading-rm/doc-collections/nuregs/staff/sr1910/s1/. Additionally, the NRC maintains an Agencywide Documents and Management System (ADAMS), which provides text and image files of the NRC's public documents. The SEIS may also be accessed through the NRC's Public Electronic Reading Room on the internet at: http://www.nrc.gov/reading-rm/adams.html. The “Environmental Impact Statement for the Moore Ranch ISR Project in Campbell County, Wyoming—Supplement to the Generic Environmental Impact Statement for In-situ Leach Uranium Milling Facilities” is available electronically under ADAMS Accession Number ML102290470. If you do not have access to ADAMS or if there is a problem accessing documents located in ADAMS, contact the NRC Public Document Room (PDR) reference staff at 1 (800) 397-4209, 1 (301) 415-4737, or by e-mail to pdr.resource@nrc.gov. Hard copies of the final SEIS are available upon request. Both information and documents associated with the final SEIS are also available for inspection at the Commission's PDR, NRC's Headquarters Building, 11555 Rockville Pike (first floor), Rockville, Maryland. For those without access to the Internet, paper copies of any electronic documents may be obtained for a fee by contacting the NRC's PDR at 1 (800) 397-4209. The final SEIS and related documents may also be found at the following public library: Campbell County Public Library, 2101 South 4J Road, Gillette, Wyoming 82718, 307-687-0009.

FOR FURTHER INFORMATION CONTACT: Mr. Behram Shroff, Project Manager, Environmental Review Branch-B, Division of Waste Management and Environmental Protection (DWMEP), Office of Federal and State Materials and Environmental Management Programs, Mail Stop T-8F5, U.S. Nuclear Regulatory Commission, Washington, DC 20555-0001. Telephone: 1 (800) 368-5642, extension 0666; E-mail: Behram.Shroff@nrc.gov. For general or technical information associated with the safety and licensing of uranium milling facilities, please contact Stephen Cohen, Team Lead, Uranium Recovery Licensing Branch, DWMEP, Mail Stop T-8F5, U.S. Nuclear Regulatory Commission, Washington, DC 20555-0001. Telephone: 1 (800) 368-5642, extension 7182; E-mail: Stephen.Cohen@nrc.gov.

Dated at Rockville, Maryland, this 18th day of August 2010.
For the Nuclear Regulatory Commission.
David Skeen,
Acting Deputy Director, Environmental Protection and Performance Assessment Directorate, Division of Waste Management and Environmental Protection Office of Federal and State Materials and Environmental Management Programs.

[FR Doc. 2010-21126 Filed 8-26-10; 8:45 am]

BILLING CODE 7590-01-P